DEPARTMENT OF HEALTH AND HUMAN SERVICES

Agency for Healthcare Research and Quality (AHRQ)

Statement of Organization, Functions, and Delegations of Authority

Part E, Chapter E (Agency for Healthcare Research and Quality), of the Statement of Organization, Functions, and Delegations of Authority for the Department of Health and Human Services (61 FR 15955-58, April 10, 1996, most recently amended at 66 FR 44149-50 on August 22, 2001) is further amended to reflect recent organizational changes. The specific amendments are as follows:

Under Section E-10, Organization, delete A. through K. and replace with the following:

A. Office of the Director.

B. Center for Delivery, Organization, and Markets.

C. Center for Financing, Access, and Cost Trends.

D. Center for Outcomes and Evidence.

E. Center for Primary Care, Prevention, and Clinical Partnerships.

F. Center for Quality Improvement and Patient Safety.

G. Office of Communications and Knowledge Transfer.

H. Office of Extramural Research, Education, and Priority Populations.

I. Office of Performance, Accountability, Resources and Technology.

Under Section E-20. Functions, delete all titles and statements and replace with the following:

Office of the Director (EA). Directs the activities of the Agency for Healthcare Research and Quality (AHRQ) to ensure the achievement of strategic objectives. Specifically: (1) Provides overall leadership for the Agency; (2) maintains the scientific integrity and objectivity of the Agency's research; (3) directs and coordinates the Agency's research, research training programs, and dissemination activities; (4) ensures that Agency programs support Administration goals and objectives; (5) represents the Agency within the Department, at the highest level of Government, and to the public; (6) coordinates the legislative activities of the Agency, the review and clearance of Department and other Federal policies and regulations, and reports to Congress; (7) controls the flow of correspondence and official documents entering and leaving the Agency; (8) manages the National Advisory Council; and (9) supports the AHRQ Ombuds.

Center for Financing, Access, and Cost Trends (EC). Conducts, supports and manages studies of the cost and financing of health care, the access to health care services and related trends. Develops data sets to support policy and behavioral research and analyses. These studies and data development activities are designed to provide health care leaders and policymakers with the information and tools they need to improve decisions on health care financing, access, coverage and cost. Specifically: (1) Conducts, supports and manages research and analysis of trends and patterns of health expenditures, public and private insurance coverage, use of personal health services, health status and access to care for the general population and subgroups of policy interest; (2) conducts and manages health sector surveys such as medical expenditure surveys; surveys of medical care providers, employers and other sources of insurance coverage and health benefits; and surveys of the use, cost, and financing of care for special populations; (3) collects, reorganizes, and analyzes administrative databases related to health care use, health status, cost and financing; (4) provides modeling and projections of health care use, status, expenditures, and payments for policy research; (5) conducts and supports statistical and methodological research on survey design, sampling and estimation techniques, and data quality; (6) conducts and supports surveys and research of institutional and community based long term care; (7) evaluates administrative data sets for intramural and extramural research including policy and methodological studies; and (8) builds research and data collection partnerships with the health care sector, employers, and foundations, and represents the Agency in meetings with Federal agencies and experts on health policy issues especially issues related to health expenditures, access, and insurance, Federal and State health care programs.

Division of Modeling and Simulation (ECB). Provides research, models, and data bases to support microsimulation analyses of household impacts and trends in health expenditures from health policies embodied in current law and from health care policies embodied in generic versions of proposed health care reforms. Specifically: (1) Projects the National Medical Expenditure Survey and the Medical Expenditure Panel Survey household expenditure data to future years; (2) aligns the projected household expenditure data to the Health Care Financing Administration's National Health Expenditures by type of health service and payment source; (3) uses a variety of outside data sources to project, for example, the household population, Medicaid enrollees, household income, and private and public health insurance benefits; (4) develops and updates the Agency's MEDSIM microsimulation model's software to estimate current household income and payroll taxes, current private and public insurance coverage and benefits, and the costs and consequences of generic versions of proposed health care reforms; (5) provides the latest versions of the projected expenditure data bases and associated research products on the Agency home page; (6) uses MEDSIM and its data bases to conduct and publish research on current and proposed health policies and on trends in household health care expenditures; and (7) provides cost and distributional MEDSIM estimates of specific legislative health care reform proposals to provide predecisional guidance to requesting federal officials.

Division of Social and Economic Research (ECC). Provides basic descriptive and behavioral analyses of the population's access to, use of expenditures and sources of payment for health care; the availability and costs of private health insurance in the employment-related and non-group markets; the population enrolled in public health insurance coverage and those without health care coverage; and the role of health status in health care use, expenditures, and household decision-making, and in health insurance and employment choices. Specifically: (1) Provides analytical input to the design and development of primary data collection efforts and research-related data bases; (2) develops a research agenda related to health care use, expenditures, access to care, sources of payment, health insurance, and health status; (3) conducts applied research in these areas by applying substantive research tools from the fields of health services research, health economics, medical sociology, public policy analysis, demography, statistics and econometrics; (4) disseminates research findings through presentations at conferences, publications in peer reviewer journals, book chapters, and conference volumes; (5) provides substantive technical expertise on health care use, expenditures, and insurance coverage to other units within AHRQ, other governmental units, private sector research institutions, and by serving as technical reviewers and advisors to scholarly journals, technical advisory committees, and private and public sector task forces.

Division of Statistical Research and Methods (ECD). Plans and conducts studies on statistical methods and the use of statistics in survey design in health services research. These studies provide the bases for policy research and analysis and for technical assistance provided to other Centers and Offices within the Agency. Specifically: (1) Identifies, designs, conducts, and implements statistical research and evaluation studies in accordance with the Agency's research priorities; (2) oversees the statistical design of the National Medical Expenditure Panel Survey (MEPS); and (3) conducts research in the areas of survey design, sampling, estimation, imputation, the analysis of complex survey data, and the reduction of sources of sampling and nonsampling errors in the design of national health care surveys.

Division of Survey Operations (ECE). Plans, implements and monitors the fielding of CFACT surveys. Specifically: (1) Develops and disseminates public use data files which including editing, imputation and estimation tasks; (2) assists in the development of data reports which are of particular interest to the Department and other Federal, State and local government agencies as well as the larger research community; and (3) monitors the development of Computer Assisted Personal Interviewing (CAPI) data collection instruments.

Center for Delivery, Organization, and Markets (EH). Provides a locus of leadership and expertise for advances in health care delivery, organization, and markets through research. Specifically: (1) Conducts, supports, and manages studies designed to give health care leaders and policy makers the information and tools they need to improve health system performance; (2) generates evidence on how health care delivery and organizational dynamics affect performance through qualitative and quantitative research, delivery-based research networks, data and tool development and other state, federal, and private partnerships; (3) examines the impact of delivery and organizational attributes and changes—including payer mix, delivery sites, practice patterns, structure, workforce, leadership, governance and culture—across acute, community-based, and long-term-care settings; (4) studies how market forces and reactions to them—such as payment methods financial and non-financial incentives, safety net funding, employer purchasing strategies, quality measurement and reporting, and regulations—influence performance; and (5) represents the Agency in meetings with Federal agencies and experts on health policy issues especially those related to advancing evidence-based decision making in organizations and the public policy arena.

Center for Outcomes and Evidence (EJ). Conducts and supports research and assessment of health care practices, technologies, processes, and systems. Specifically: (1) Conducts and supports research, assessments, and demonstrations on safety, quality, effectiveness, cost-effectiveness, and other relevant attributes of health care practices, technologies, processes and systems; (2) facilitates and coordinates the development of infrastructures for collection, analysis, and synthesis of evidence and data on the safety, effectiveness and quality of health care practices, technologies, processes, and systems; (3) serves as a center of excellence for methods and measurement development for the conduct and analysis of outcomes research, cost effectiveness analysis, and evidence-based systematic reviews and technology assessments; (4) serves as a source of evidence based information about therapeutics, technologies, and healthcare practices for clinical and policy decision makers; (5) directs and supports research on and implementation of the appropriate use of therapeutics and medical technologies, including preventing overuse, under-use and adverse effects; (6) provides an array of tools and products to promote and facilitate evidence-based clinical practices and health care decision making; (7) fosters partnerships with health care provides, insurers, employers and consumers to bring about sustainable systemic change to implement evidence-based practices and improve patient outcomes and quality of care; and (8) represents the Agency in meetings with experts and organizations in the areas of outcomes research and evidence-based medicine and organizes conferences on these topics.

Center for Primary Care, Prevention, and Clinical Partnerships (EK). Expands the knowledge base for clinical providers and patients and to assure the translation of new knowledge and systems improvement into primary care practices. Supports and conducts research to improve the access, effectiveness, and quality of primary and preventive health care services in the United States. Specifically: (1) Supports primary care practice-based research networks (PBRNs) in order to investigate questions related to community-based practice and to improve the quality of primary and preventive care; (2) responsible for the rigorous evaluation of clinical research assessing the merits of preventive measures, including screening tests, counseling, immunizations, and chemoprevention through the United States Preventive Services Task Force; (3) serves as the Agency's locus for the use of information technology to improve health care and facilitates the evaluation and diffusion of effective information technology tools into clinical practice; and (4) supports research and demonstrations that improve healthcare system preparedness for bioterrorism and other public health threats, with an emphasis on the role of front-line clinical providers.

Center for Quality Improvement and Patient Safety (EL). Works to improve the quality and safety of our health care system through research an implementation of evidence. Specifically: (1) Conducts and supports research, demonstrations, and evaluations of the quality of health care and patient safety across our health care systems and, specifically, for priority populations; (2) conducts and supports research on the measurement of health care quality and promotes the use of these measures; (3) conducts and supports research on effective ways to improve the quality of health care and participates in the dissemination of this knowledge; (4) evaluates methods for identifying, preventing and ameliorating medical errors and enhancing patient safety; (5) designs, conducts, and supports surveys to assess the quality of and patients' experiences with health care services and systems; (6) develops and disseminates annual reports on health care quality, disparities and patient safety; (7) provides technical assistance and gathers information on the use of quality measures, consumer and patient information, and reporting on patient safety and the resulting effects; (8) supports dissemination and communication activities to improve quality of care and patient safety; (9) partners with stake holders to implement research findings and evidence related to quality measurement, quality improvement and patient safety; and (10) represents the Agency in meetings with domestic and international experts and organizations concerned with measuring and evaluating the quality of care and enhancing patient safety.

Office of Communications and Knowledge Transfer (EN). Designs, develops, implements, and manages programs for disseminating the results of Agency activities with the goal of changing audience behavior. Specifically: (1) Communicates the results and significance of health services research and other AHRQ initiatives to the health care industry, health care providers, consumers and patients, policy makers, researchers, and the media with particular emphasis on communicating AHRQ initiatives in the ways each of these constituencies are most interested and are likely to lead to behavior change; (2) manages the editing, publication, and information distribution processes of the Agency, including Freedom of Information Act administration; (3) provides the administrative support for reference services and the distribution of technical information to Agency staff; (4) manages the public affairs activities of the Agency, Agency clearinghouse for responding to requests for information and technical assistance, and a program for consumer information about health care research findings; (5) directs a user liaison program to provide health care research and policy findings to Federal, State and local public officials, and other audiences as appropriate; (6) evaluates the effectiveness of Agency dissemination strategies and implements changes indicated by such evaluations; and (7) represents the Agency in meetings with Department representatives on press releases, media events, and publication clearance.

Division of Print and Electronic Publishing (EBB). Responsible for disseminating AHRQ's many and varied informational products.Ensures that findings and information from conducted or funded by AHRQ are created in forms useful to intended recipients. Specifically: (1) Produces information products in a variety of print and electronic formats that are scientifically bound and appropriately targeted to various audiences; (2) edits and controls the review and publication of all AHRQ documents; (3) ensures proper clearance procedures consistent the Departmental rules; (4) provides interfaces with the Government Printing Office and National Technical Information Service; (5) organizes and conducts AHRQ's exhibits program and provides conference support services to program staff; (6) provides and coordinates graphics, printing and visual aids production for AHRQ; (7) analyzes AHRQ audiences and information needs, and recommends information products that meet AHRQ's scientific information and dissemination goals; and (8) works with and assists the National Library of Medicine in efforts to improve the availability of health services information to the public.

Division of Public Affairs (ENC). Responsible for planning and carrying out the public affairs activities the Agency. Specifically: (1) Handles AHRQ media relations; (2) develops health care research information dissemination partnerships with other Federal agencies, provider groups, the continuing education and continuing medical education communities, and the private sector; (3) ensures that findings and information from research conducted or funded by AHRQ are made promptly available to the public and private sectors; (4) analyzes AHRQ audiences and information needs and recommends new outreach/dissemination programs and information products to meet AHRQ's scientific information and dissemination goals and needs of AHRQ target audiences; (5) recommends the most effective and efficient approaches to information dissemination; (6) develops and evaluates the effectiveness of Agency dissemination strategies; (7) manages AHRQ's publication clearinghouse; (8) responds to public inquires about AHRQ and its research; (9) makes final reports of Agency-supported research available to the public through the National Technical Information Service; and (10) carries out AHRQ's Freedom of Information Act activities.

Division of User Liaison and Research Translation (END). Provides direction and coordination of the Agency's program to define the issues, problems, and information needs of selected users of health services research, especially public and private sector policymakers, and to disseminate to them relevant research findings, program data, and descriptive information related to the organization, planning, management, financing, delivery, evaluation, and outcomes of health services at the Federal, state, and local level. Specifically: (1) Develops syntheses of research findings focused on particular issues dealing with policy concerns and operational problems; (2) plans and conducts workshops and seminars to provide research findings and related information to policymakers and other consumers of health services research to allow them to make better informed health care policy decisions; (3) maintains liaison with State and local government organizations, public policy organizations, and with the research community and receives and appropriately transmits information which may impact the Agency's research plan and priority setting process; (4) formulates, in collaboration with Agency staff, appropriate policies and activities to develop effective linkages with potential users of health services research; (5) communicates information regarding user research needs to the Agency Director and appropriate Agency staff to ensure user needs are adequately addressed in current and planned Agency project; (6) develops and implements mechanisms to identify and contact potential users of research findings and related information; (7) plans meetings and coordinates contacts between Agency staff and individual users and representatives of users' groups and organizations; (8) provides assistance and advice to other Federal agencies and organizations in evaluating the utility of Federally-sponsored research to State and local government officials; and (9) provides technical assistance for the design and implementation of research projects undertaken by State and local governments.

Office of Extramural Research, Education, and Priority Populations (EP). Directs the scientific review process for grants and Small Business Innovation Research (SBIR) contracts, manages Agency research training programs, evaluates the scientific contribution of proposed and on-going research, demonstrations, and evaluations, and supports and conducts health services research on priority populations. Specifically: (1) Directs the process for selecting, reviewing, and funding grants and reviewing SBIR contracts for scientific merit and program relevance; (2) assigns grant applications to Centers and Offices for administrative action; (3) manages the process for making funding decisions for grants; (4) directs Agency research training and career development programs and implementation of the National Research Service Award authority; (5) manages the committee management and scientific integrity processes for the intramural and extramural programs of the Agency; (6) develops and coordinates clearance of peer review regulations, as required, policy notices and program announcements; (7) facilitates Agency-wide communication and coordination regarding extramural policy, planning, and analysis; (8) represents the Agency in meetings with experts and organizations on issues related to the administration of the Agency's scientific programs; (9) advises the Agency leadership on matters pertaining to the health needs and health care of priority populations, including scientific, ethical, legal and policy issues; (10) prepares the agenda for priority populations research—both extramural and intramural—through the Agency's strategic planning process, needs assessments, and user input; (11) serves as an expert resource within the Agency on priority populations to assist program development and participates in the development of policies and programs to implement the Agency's priority populations agenda; (12) fosters new knowledge, tool, talent, and strategy development related to priority populations by recommending, leading, coordinating and conducting new initiatives, including intramural initiatives; (13) works in partnership with other Centers and Offices to design and implement efforts to translate, disseminate, and implement evidence-based initiatives and programs to improve health care for priority populations; (14) evaluates the degree to which the Agency is meeting its goals for priority populations; (15) provides national expertise to Agency staff and Agency partners on priority populations issues, establishing and maintaining liaison with other knowledgeable or concerned agencies, governments and organizations; (16) establishes new contacts and cultivates present ones with external groups (a) To spur increased awareness and emphasis on priority populations within the health services research, health care policy, and health care delivery communities, (b) to partner with organizations and agencies to expand research on priority populations, thereby securing additional resources for these activities, and (c) to build research and implementation capacity on priority populations; and (17) enhances the visibility of the Agency in priority populations through frequent presence and delivery of speeches and scientific presentations of meetings of relevance to the field and to AHRQ's mission.

Division of Research Education (EPB). Develops, implements, and evaluates a comprehensive extramural health services research education program which supports the career development of predoctoral and postdoctoral students. Specifically: (1) Manages the AHRQ research education/training portfolio, which includes National Research Service Award (NRSA) institutional training grants, NRSA individual postdoctoral training grants, dissertation training grants, and incentive innovation awards; (2) establishes systems/mechanisms to monitor the external health care environment for research needs of potential private and public sector employers and to anticipate special training needs; (3) implements new programs and support mechanisms, and modifies existing ones to meet changing needs; (4) develops and manages activities intended to evaluate the effects of past investments in health services research training by examining career patterns, publication records, and research productivity of persons supported by AHRQ; (5) promotes visibility for the field of health services research and the availability of training support through a variety of mechanisms; (6) keeps abreast of Department policies and procedures which pertain to extramural research education training, and assures compliance at the AHRQ level; and (7) works with AHRQ leadership to sure communication and collaboration between ORREP and program centers with an interest in research education.

Division of Scientific Review (EPC). Plans and carries out the scientific review for all AHRQ extramural research grants and SBIR proposals. Specifically: (1) Assures compliance with organizational, regulatory, and policy aspects of peer review; (2) determines review requirements for standing study sections and special emphasis panels; (3) anticipates needs/changes regarding the charters of standing study sections, establishes and implements procedures for chartering study sections, filling study section vacancies and appointing new members and chairpersons, orient new reviewers to peer review processes; (4) advises Agency staff on peer review processes and grant solicitations; (5) keeps abreast of departmental, especially NIH, policies and procedures regarding peer review to assure compatibility of AHRQ processes; (6) interacts with the health services research community and keeps abreast of emergent research developments as they relate to review planning; (7) establishes and maintains continuous quality monitoring and improvement activities; and (8) coordinates funding meetings and relevant follow-up activities.

Division of Priority Populations Research (EPD). Coordinates, supports, manages and conducts health services research on priority populations. Specifically: (1) Advises the Agency leadership on matters pertaining to the health needs and health care of priority populations, including scientific, ethical, legal and policy issues; (2) prepares the agenda for priority populations research through the Agency's strategic planning process, needs assessment, and user input; (3) serves as an expert resource within the Agency on priority populations to assist program developments and participates in the development of policies and programs to implement the Agency's priority populations agenda; (4) fosters new knowledge, tool, and talent development related to priority populations by recommending, leading, coordinating and conducting new initiatives; (5) assists in the translation, dissemination, and application of Agency initiatives and programs to improve health care for priority populations; (6) evaluates the degree to which the Agency is meeting its goals for priority populations research; (7) provides national expertise to Agency staff and Agency partners on priority populations issues, establishing and maintaining liaison with other knowledgeable or concerned agencies, governments and organizations; (8) establishes new contacts and cultivates present ones with external groups (a) To spur increased awareness and emphasis on priority populations within the health services research community, (b) to partner with organizations and agencies to expand research on priority populations, thereby securing additional resources for the these activities, and (c) build the research capacity on priority populations; and (9) enhances the visibility of the Agency in priority populations research.

Office of Performance, Accountability, Resources, and Technology (EQ). Directs and coordinates Agency-wide program planning and evaluation activities and administrative operations. Specifically: (1) Ensures program planning is integrated with budget formulation and performance and serves as the Agency's focal point for Government Performance and Results Act activities; (2) plans and directs financial management activities including budget formulation, presentation, and execution functions and supports linking of the budget and planning processes; (3) provides human resource consultation services regarding all aspects of personnel management, workforce planning and restructuring, and the allocation and utilization of personnel resources; (4) provides organizational and management analysis, develops operating policies and procedures, and implements and carries out Agency management programs and policies; (5) coordinates the Agency's Federal Managers' Financial Integrity Act, competitive sourcing and FAIR Act, and Privacy Act activities; (6) conducts all business management aspects of the review, negotiation, award, and administration of Agency research grants, cooperative agreements, and contracts; (7) manages the analysis, selection, implementation, and operation of all aspects of the Agency's information technology infrastructure and telecommunication systems; (8) provides other Agency support services including the acquisition, management, and maintenance of supplies, equipment, and space.

These changes are effective upon date of signature.

Dated: July 8, 2003.
Carolyn M. Clancy,
Director.

[FR Doc. 03-18911 Filed 7-24-03; 8:45 am]

BILLING CODE 4160-90-M